DEPARTMENT OF DEFENSE

Office of the Secretary

[Transmittal Nos. 11-34]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittal 11-34 with attached transmittal and policy justification.

Dated: September 23, 2011.
Aaron Siegel,
Alternate OSD Federal Register Liaison Officer, Department of Defense.

BILLING CODE 5001-06-P

BILLING CODE 5001-06-C

Transmittal No. 11-34

Notice of Proposed Issuance of Letter of Offer Pursuant to Section 36(b)(1) of the Arms Export Control Act

(i) Prospective Purchaser: Taipei Economic and Cultural Representative Office in the United States pursuant to the Taiwan Relations Act (P. L. 96-8) and Executive Order 13014.

(ii) Total Estimated Value:

Major Defense Equipment* | $ 0 million
Other | 52 million
Total | 52 million
* As defined in Section 47(6) of the Arms Export Control Act.

(iii) Description and Quantity or Quantities of Articles or Services under Consideration for Purchase: a Foreign Military Sales Order II (FMSO II) to provide funds for blanket order requisitions, under the Cooperative Logistics Supply Agreement (CLSSA) for spare parts in support of F-16A/B, F-5E/F, C-130H, and Indigenous Defense Fighter aircraft.

(iv) Military Department: Air Force (KDN)

(v) Prior Related Cases, if any:

FMS Case KAV—$2.7M-Nov67

FMS Case KDE—$40M-Nov95

FMS Case KDI—$48M-Mar06

FMS Case KDJ—$48M-Jan08

FMS Case KDK—$209M-Feb09

FMS Case KDL—$48M-Oct08

FMS Case KDM—$48M-May11

(vi) Sales Commission, Fee, etc., Paid, Offered, or Agreed to be Paid: None

(vii) Sensitivity of Technology Contained in the Defense Article or Defense Services Proposed to be Sold: None

(viii) Date Report Delivered to Congress: 21 Sep 2011

POLICY JUSTIFICATION

Taipei Economic and Cultural Representative Office in the United States—Foreign Military Sales Order II (FMSO II)

The Taipei Economic and Cultural Representative Office in the United States has requested a Foreign Military Sales Order II (FMSO II) to provide funds for blanket order requisitions, under the Cooperative Logistics Supply Agreement (CLSSA) for spare parts in support of F-16A/B, F-5E/F, C-130H, and Indigenous Defense Fighter (IDF) aircraft. The estimated cost is $52 million.

This sale is consistent with United States law and policy as expressed in Public Law 96-8.

This proposed sale serves U.S. national, economic, and security interests by supporting the recipient's continuing efforts to modernize its armed forces and enhance its defensive capability. The proposed sale will help improve the security of the recipient and assist in maintaining political stability, military balance, and economic progress in the region.

The recipient requires continuing procurement and repair of aircraft spare parts through the USG's FMSO II program in order to sustain and keep flyable its military fleets of F-16, F-5, C-130, and IDF aircraft. The spare parts to be procured and/or repaired under this proposed sale are critical for maintaining their fighter and transport aircraft in operational condition.

Procurement of these items will be from many contractors providing similar items to the U.S. forces. There are no known offset agreements proposed in connection with this potential sale.

Implementation of this sale will not require the assignment of any additional U.S. Government personnel or contractor representatives to the recipient.

There will be no adverse impact on U.S. defense readiness as a result of this proposed sale.

[FR Doc. 2011-25020 Filed 9-28-11; 8:45 am]

BILLING CODE 5001-06-P